DEPARTMENT OF COMMERCE

International Trade Administration

[A-570-067]

Forged Steel Fittings From the People's Republic of China: Final Results of Antidumping Duty Administrative Review; 2019-2020

AGENCY: Enforcement and Compliance, International Trade Administration, Department of Commerce.

SUMMARY: The U.S. Department of Commerce (Commerce) determines that Both-Well (Taizhou) Steel Fittings Co., Ltd. (Both-Well), an exporter of forged steel fittings from the People's Republic of China (China), did not sell subject merchandise in the United States at prices below normal value (NV) during the period of review (POR) November 1, 2019, through October 31, 2020.

DATES: Applicable June 10, 2022.

FOR FURTHER INFORMATION CONTACT: Jinny Ahn, AD/CVD Operations, Office VIII, Enforcement and Compliance, International Trade Administration, Department of Commerce, 1401 Constitution Avenue NW, Washington, DC 20230; telephone: (202) 482-0339.

SUPPLEMENTARY INFORMATION:

Background

Commerce published the Preliminary Results ¹ on December 7, 2021, and invited interested parties to comment. On March 7, 2022, Commerce extended the deadline of the final

¹ See Forged Steel Fittings from the People's Republic of China: Preliminary Results of Antidumping Duty Administrative Review and Partial Rescission; 2019-2020, 86 FR 69222 (December 7, 2021) (Preliminary Results), and accompanying Preliminary Decision Memorandum.

results of this administrative review by 58 days, until June 3, 2022.² For a complete description of the events that occurred since the Preliminary Results, see the Issues and Decision Memorandum.³

² See Memorandum, “Forged Steel Fittings from the People's Republic of China (China): Extension of Deadline for Final Results of Second Antidumping Duty Administrative Review,” dated March 7, 2022.

³ See Memorandum, “Decision Memorandum for the Final Results of Antidumping Duty Administrative Review: Forged Steel Fittings from the People's Republic of China; 2019-2020,” dated concurrently with, and hereby adopted by, this notice (Issues and Decision Memorandum).

Scope of the Order ⁴

⁴ See Forged Steel Fittings from Italy and the People's Republic of China: Antidumping Duty Orders, 83 FR 60397, dated November 26, 2018 (Order).

The merchandise covered by the Order is forged steel fittings from China. For a complete description of the scope of the Order, see the Issues and Decision Memorandum.

Analysis of Comments Received

All issues raised in the parties' briefs are addressed in the Issues and Decision Memorandum. A list of the issues addressed is attached as the appendix to this notice. The Issues and Decision Memorandum is a public document and is on file electronically via Enforcement and Compliance's Antidumping and Countervailing Duty Centralized Electronic Service System (ACCESS). ACCESS is available to registered users at https://access.trade.gov. In addition, a complete version of the Issues and Decision Memorandum can be accessed directly at https://access.trade.gov/public/FRNoticesListLayout.aspx.

Changes Since the Preliminary Results

Based on our review of the record and comments received from interested parties regarding our Preliminary Results, we made a revision to the margin calculations for Both-Well.⁵ For a discussion of this change, see the Issues and Decision Memorandum.

⁵ See Memorandum, “Antidumping Duty Administrative Review of Forged Steel Fittings from the People's Republic of China: Final Results Calculation Memorandum for Both-Well,” dated concurrently with this notice.

Separate Rate

In the Preliminary Results, Commerce determined that Both-Well demonstrated its eligibility for a separate rate.⁶ We received no comments or arguments since the issuance of the Preliminary Results that provide a basis for reconsideration of this separate rate determination. Therefore, for these final results, we continue to find that Both-Well is eligible for a separate rate.

⁶ See Preliminary Results, 86 FR at 69222.

The China-Wide Entity

Commerce's policy regarding conditional review of the China-wide entity applies to this administrative review.⁷ Under this policy, the China-wide entity will not be under review unless a party specifically requests, or Commerce self-initiates, a review of the China-wide entity.⁸ Because no party requested a review of the China-wide entity in this review, the China-wide entity is not under review and the China-wide entity's rate (i.e., 142.72 percent) is not subject to change as a result of this review.⁹

⁷ See Antidumping Proceedings: Announcement of Change in Department Practice for Respondent Selection in Antidumping Proceedings and Conditional Review of the Nonmarket Economy Entity in NME Antidumping Duty Proceedings, 78 FR 65963 (November 4, 2013).

⁸ Id.

⁹ See Order, 83 FR at 60397.

Final Results of the Review

Commerce determines that the following weighted-average dumping margin exists for the POR:

Exporter | Weighted- average dumping margin (percent)
Both-Well (Taizhou) Steel Fittings Co., Ltd | 0.00

Disclosure

We intend to disclose the calculations performed to interested parties in this proceeding under an Administrative Protective Order (APO) within five days of the date of publication of this notice in accordance with 19 CFR 351.224(b).

Assessment Rates

Pursuant to section 751(a)(2)(C) of the Tariff Act of 1930, as amended (the Act), and 19 CFR 351.212(b), Commerce has determined, and U.S Customs and Border Protection (CBP) shall assess, antidumping duties on all appropriate entries covered by this review. Commerce intends to issue assessment instructions to CBP no earlier than 35 days after the date of publication of the final results of this review in the Federal Register. If a timely summons is filed at the U.S. Court of International Trade, the assessment instructions will direct CBP not to liquidate relevant entries until the time for parties to file a request for a statutory injunction has expired (i.e., within 90 days of publication).

Because the weighted-average dumping margin for Both-Well, the only respondent in this administrative review, is zero, Commerce will instruct CBP to liquidate the appropriate entries without regard to antidumping duties.¹⁰

¹⁰ See Antidumping Proceedings: Calculation of the Weighted-Average Dumping Margin and Assessment Rate in Certain Antidumping Proceedings: Final Modification, 77 FR 8101, 8103 (February 14, 2012).

For entries that were not reported in the U.S. sales data submitted by Both-Well during this review, Commerce will instruct CBP to liquidate such entries at the rate for the China-wide entity.¹¹

¹¹ See Non-Market Economy Antidumping Proceedings: Assessment of Antidumping Duties, 76 FR at 65694 (October 24, 2011), for a full discussion of this practice.

Cash Deposit Requirements

The following cash deposit requirements will be effective upon publication of the final results of this administrative review for shipments of the subject merchandise from China entered, or withdrawn from warehouse, for consumption on or after the publication date, as provided by section 751(a)(2)(C) of the Act: (1) for Both-Well, the cash deposit rate will be zero; (2) for a previously examined Chinese and non-Chinese exporter not listed above that received a separate rate in a prior completed segment of this proceeding, the cash deposit rate will continue to be the existing exporter-specific cash deposit rate; (3) for all Chinese exporters of subject merchandise that have not been found to be entitled to a separate rate, the cash deposit rate will be the rate for the China-wide entity (i.e., 142.72 percent); and (4) for all non-Chinese exporters of subject merchandise which have not received their own separate rate, the cash deposit rate will be the rate applicable to the Chinese exporter that supplied that non-Chinese exporter.

These cash deposit requirements, when imposed, shall remain in effect until further notice.

Notification to Importers Regarding the Reimbursement of Duties

This notice also serves as a final reminder to importers of their responsibility under 19 CFR 351.402(f)(2) to file a certificate regarding the reimbursement of antidumping duties prior to liquidation of the relevant entries during this POR. Failure to comply with this requirement could result in Commerce's presumption that reimbursement of antidumping duties has occurred and the subsequent assessment of double antidumping duties.

Notification Regarding APO

This notice also serves as a reminder to parties subject to APO of their responsibility concerning the return or destruction of proprietary information disclosed under APO in accordance with 19 CFR 351.305(a)(3), which continues to govern business proprietary information in this segment of the proceeding. Timely written notification of the return or destruction of APO materials, or conversion to judicial protective order, is hereby requested. Failure to comply with the regulations and terms of an APO is a violation subject to sanction.

Notification to Interested Parties

These final results and notice are issued and published in accordance with sections 751(a)(1) and 777(i)(1) of the Act, and 19 CFR 351.213(h) and 19 CFR 351.221(b)(5).

Dated: June 3, 2022.
Lisa W. Wang,
Assistant Secretary for Enforcement and Compliance.

Appendix

List of Topics Discussed in the Issues and Decision Memorandum

I. Summary

II. Background

III. Scope of the Order

IV. Changes Since the Preliminary Results

V. Discussion of the Issues

Comment 1: Whether To Adjust Both-Well's Reported Per-Unit Consumption of Steel Bar

Comment 2: Whether To Adjust Both-Well's Reported Per-Unit Consumption of Labor

Comment 3: Whether To Adjust Both-Well's Reported Per-Unit Consumption of Energy

Comment 4: Whether Commerce Made a Ministerial Error in the Preliminary Results

VI. Recommendation

[FR Doc. 2022-12474 Filed 6-9-22; 8:45 am]

BILLING CODE 3510-DS-P